FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than August 6, 2024.

A. Federal Reserve Bank of Kansas City (Jeffrey Imgarten, Assistant Vice President) 1 Memorial Drive, Kansas City, Missouri 64198-0001. Comments can also be sent electronically to KCApplicationComments@kc.frb.org:

1. Andrew Hoffman Legacy Trust dated January 3, 2022, Peoples Bank and Trust Company as trustee, Wise & Reber L.C. as trust protector, Andrew Hoffman as voting beneficiary, all of McPherson, Kansas; Caleb Houghton Legacy Trust dated January 3, 2022, Peoples Bank and Trust Company as trustee, Wise & Reber L.C. as trust protector, Caleb Houghton as voting beneficiary, all of McPherson, Kansas; Hannah Nesbitt Legacy Trust dated January 3, 2022, Peoples Bank and Trust Company as trustee, Wise & Reber L.C. as trust protector, all of McPherson, Kansas, and Hannah Nesbitt, Andover, Kansas, as voting beneficiary; and Paige Moore Legacy Trust dated January 3, 2022, Peoples Bank and Trust Company as trustee, Wise & Reber L.C. as trust protector, all of McPherson, Kansas, and Paige Moore, Wichita, Kansas, as voting beneficiary; to join the Houghton Family Group, a group acting in concert, to retain the voting shares of PBT Bancshares Inc., McPherson, Kansas, and thereby indirectly retain voting shares of Peoples Bank and Trust Company.

Board of Governors of the Federal Reserve System.
Erin Cayce,
Assistant Secretary of the Board.

[FR Doc. 2024-16062 Filed 7-19-24; 8:45 am]

BILLING CODE P